DEPARTMENT OF ENERGY

Federal Energy Regulatory Commission

[Docket No. PR01-16-000]

Bridegline Holdings, L.P.; Notice of Application for Rate Approval

June 12, 2001.

Take notice that on June 1, 2001, Bridgeline Holdings, L.P. (Bridgeline) filed an application for rate approval, pursuant to Section 284.123(b)(2) of the Commission's regulations, proposing a system-wide maximum rate for interruptible transportation of $0.3700 per MMBtu, and a maximum usage rate for firm transportation of $0.0849 per MMBtu with a monthly reservation charge of $8.67 per MMBtu, for service under Section 311(a)(2) of the Natural Gas Policy Act (NGPA). Bridgeline also states it seeks authority to increase or decrease its maximum usage and reservation charges to satisfy shippers' needs or requests, so long as the combined usage and reservation charge does not exceed $0.3700 on a 100% load factor basis.

Bridgeline is an intrastate pipeline with facilities located wholly within the State of Louisiana. The facilities were acquired by merger from Louisiana Resources Pipeline Company Limited Partnership (LRP), effective March 15, 2000. On March 1, 1999, the Commission issued a letter order approving settlement rates under Section 311 for LRP's firm and interruptible transportation service, as well as Park N' Ride service. 86 FERC ¶61,204 (1999) The order required that on or before June 1, 2001, LRP file an application for approval of the existing rates or to establish new rates. The current filing proposes increased transportation rates and states that Bridgeline will no longer offer Park N' Ride service.

Pursuant to Section 284.123(b)(2)(ii), of the Commission's regulations, if the Commission does not act within 150 days of the date of the Petition's filing date, the rates proposed therein will be deemed to be fair and equitable and not in excess of an amount that interstate pipelines would be permitted to charge for similar services. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before June 27, 2001. This petition for rate approval is on file with the Commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-15232 Filed 6-15-01; 8:45 am]

BILLING CODE 6717-01-M